DEPARTMENT OF ENERGY

Federal Energy Regulatory Commission

[Project No. 2426-239]

California Department of Water Resources; Notice of Intent To Prepare an Environmental Assessment

On June 30, 2025, California Department of Water Resources (DWR) filed an application for temporary variance from requirements of Article 52 for the South SWP Project No. 2426. The project is located on the State Water Project in San Bernardino and Los Angeles counties, California. The project occupies National Forest Service land managed by the Angeles and Los Padres National Forests.

The licensee requests Commission approval to temporarily increase the limit of water deliveries from Pyramid Lake to Lake Piru via middle Piru Creek from 3,150 acre-feet (AF) per year to a maximum of 25,000 AF per year during the November 1 through end-of-February time period beginning in Water Year (WY) 2025-2026 and extending through WY 2029-2030. A Notice of Application was issued on August 25, 2025. No comments were received.

This notice identifies Commission staff's intention to prepare an environmental assessment (EA) under the National Environmental Policy Act (42 U.S.C. 4321 et seq) for the project.¹ Commission staff plans to issue an EA by December 15, 2025. Revisions to the schedule may be made as appropriate.

¹ The unique identification number for documents relating to this environmental review is EAXX-019-20-000-1759400314.

The Commission's Office of Public Participation (OPP) supports meaningful public engagement and participation in Commission proceedings. OPP can help members of the public, including landowners, community organizations, Tribal members, and others to access publicly available information and navigate Commission processes. For public inquiries and assistance with making filings such as interventions, comments, or requests for rehearing, the public is encouraged to contact OPP at (202) 502-6595 or OPP@ferc.gov.

Any questions regarding this notice may be directed to Jason Krebill at (202) 502-8268 or jason.krebill@ferc.gov.

Dated: October 7, 2025.
Carlos D. Clay,
Deputy Secretary.

[FR Doc. 2025-20662 Filed 11-21-25; 8:45 am]

BILLING CODE 6717-01-P